DEPARTMENT OF COMMERCE

National Oceanic and Atmospheric Administration

Agency Information Collection Activities; Submission to the Office of Management and Budget (OMB) for Review and Approval; Comment Request; Alaska Community Quota Entity (CQE) Program

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 15, 2025.

ADDRESSES: Interested persons are invited to submit written comments to Adrienne Thomas, NOAA PRA Officer, at NOAA.PRA@noaa.gov. Please reference OMB Control Number 0648-0665 in the subject line of your comments. All comments received are part of the public record and will generally be posted on https://www.regulations.gov without change. Do not submit Confidential Business Information or otherwise sensitive or protected information.

FOR FURTHER INFORMATION CONTACT: Requests for additional information or specific questions related to collection activities should be directed to Allyson Olds, Technical Editor, Alaska Region Sustainable Fisheries Division, 709 W 9th Street, Juneau, AK 99801, 907-586-7228, allyson.olds@noaa.gov.

SUPPLEMENTARY INFORMATION:

I. Abstract

This is a request for extension of an approved information collection. The National Marine Fisheries Service (NMFS), Alaska Regional Office (AKR), is the sponsor of this information collection. This information collection contains applications, permits, and reports required under the Community Quota Entity (CQE) Program.

NMFS AKR manages the groundfish fisheries in the exclusive economic zone of the Bering Sea and Aleutian Islands management area under the Fishery Management Plan for Groundfish of the Bering Sea and Aleutian Islands Management Area. The Magnuson-Stevens Fishery Conservation and Management Act (16 U.S.C. 1801 et seq.) authorizes the North Pacific Fishery Management Council to prepare and amend fishery management plans for any fishery in waters under its jurisdiction. The International Pacific Halibut Commission (IPHC) and NMFS AKR manage fishing for Pacific halibut (Hippoglossus stenolepis) through regulations established under the authority of the Northern Pacific Halibut Act of 1982, 16 U.S.C. 773c (Halibut Act).

The CQE Program is a Federal program administered by NMFS. The CQE Program allocates to eligible communities in Alaska a portion of the harvest quotas for groundfish, halibut, crab, and prohibited species. The allocations provide these communities with the means for starting or supporting commercial fisheries activities that will result in an ongoing, regionally based, fisheries-related economy. Participating communities are represented by a CQE, which is a NMFS-approved non-profit organization.

Under the Pacific Halibut and Sablefish Individual Fishing Quota (IFQ) Program, a CQE may purchase commercial halibut and sablefish quota share (QS) for lease to residents of the eligible community. Under the Charter Halibut Limited Access Program, a CQE may request community charter halibut permits for use in southeast Alaska and the central Gulf of Alaska by charter vessel operators designated by the CQE. Under the License Limitation Program (LLP), a CQE may request non-trawl groundfish LLP licenses endorsed for Pacific cod in the central or western Gulf of Alaska for use on vessels designated by the CQE. More information on the CQEs and the CQE Program is provided on the NMFS Alaska Region website at https://www.fisheries.noaa.gov/alaska/sustainable-fisheries/community-quota-and-license-programs-community-quota-entities.

This information collection is required in Federal regulations at 50 CFR 300 Subpart E and Part 679. The eligible communities and the community governing body that recommends the CQE are listed in Table 21 to 50 CFR part 679.

This collection contains applications used by a nonprofit corporation to become a CQE; by CQEs to receive non-trawl groundfish LLP licenses and Charter Halibut Permits (CHPs); by CQEs to transfer or receive IFQ QS; by CQEs to transfer IFQ to an eligible community resident or non-resident; and by CQEs to transfer between commercial halibut IFQ and halibut guided angler fish (GAF). In addition, this collection contains two reporting requirements: an annual report and an authorization letter. Annually, each CQE must submit a report describing its business operations and fishing activities for each eligible community it represents. CQEs requesting LLP groundfish licenses must annually submit an authorization letter that assigns each community LLP license to a user and vessel.

The type of information collected includes information on the applicants, transferors, transferees, authorized representatives, and communities represented, as well as information on the procedures, criteria, administrative activities, business operations, community fishing activities, sweep-up information, certificate and licensing information, and fishing activities pertaining to the application.

NMFS requires this information for fisheries management and to evaluate the ability of a specific CQE to represent an eligible community. NMFS uses the information collected to establish eligibility of the CQEs; review each CQE's business operations and fishing activity; monitor participation of the eligible communities in the CQE Program and associated limited access programs; and gather information on distribution and use among these communities of LLP groundfish licenses, CHPs, and halibut and sablefish QS and IFQ.

All of the forms, except for the Application for Community Charter Halibut Permit at § 300.67(k), can now be submitted electronically via email. These forms will be updated accordingly to clarify that electronic submission is allowed.

II. Method of Collection

The applications are available as fillable PDFs on the NMFS Alaska Region website at https://www.fisheries.noaa.gov/permit/alaska-community-quota-entity-applications that may be downloaded, emailed, printed, faxed, or delivered to NMFS, with the exception of the Application for Community Charter Halibut Permit at § 300.67(k), which may be only submitted by mail, hand delivery, or facsimile. The CQE annual report must be mailed. The CQE authorization letter may be submitted as an attachment to an email.

III. Data

OMB Control Number: 0648-0665.

Form Number(s): None.

Type of Review: Regular submission (extension of a current information collection).

Affected Public: Not-for-profit institutions; Individuals or households.

Estimated Number of Respondents: 94.

Estimated Time per Response: Application for a Non-profit Corporation to be Designated as a CQE: 200 hours; Transfer applications: 2 hours; Application for a CQE to Receive a Non-trawl Groundfish LLP License: 20 hours; Application for Community Charter Halibut Permit: 1 hour; CQE Annual Report: 40 hours; CQE LLP Authorization Letter: 1 hour.

Estimated Total Annual Burden Hours: 1,620 hours.

Estimated Total Annual Cost to Public: $895 in recordkeeping and reporting costs.

Respondent's Obligation: Required to Obtain or Retain Benefits; Mandatory.

Legal Authority: Magnuson-Stevens Fishery Conservation and Management Act (16 U.S.C. 1801 et seq.); The Northern Pacific Halibut Act of 1982 (16 U.S.C. 773c).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this information collection request. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-13171 Filed 7-14-25; 8:45 am]

BILLING CODE 3510-22-P